ENVIRONMENTAL PROTECTION AGENCY

[EPA-HQ-OPA-2007-0042; FRL-9950-64-OEI]

Information Collection Request Submitted to OMB for Review and Approval; Comment Request; National Oil and Hazardous Substances Pollution Contingency Plan Regulation (Renewal)

AGENCY: Environmental Protection Agency (EPA).

ACTION: Notice.

SUMMARY: The Environmental Protection Agency (EPA) has submitted an information collection request (ICR), “National Oil and Hazardous Substances Pollution Contingency Plan Regulation, subpart J (40 CFR 300.900) (Renewal)” (EPA ICR No. 1664.11, OMB Control No. 2050-0141) to the Office of Management and Budget (OMB) for review and approval in accordance with the Paperwork Reduction Act (44 U.S.C. 3501 et seq.). This is a proposed extension of the ICR, which is currently approved through September 30, 2016. Public comments were previously requested via the Federal Register (81 FR 16174) on March 25, 2016 during a 60-day comment period. This notice allows for an additional 30 days for public comments. A fuller description of the ICR is given below, including its estimated burden and cost to the public. An agency may not conduct or sponsor and a person is not required to respond to a collection of information unless it displays a currently valid OMB control number.

DATES: Additional comments may be submitted on or before October 21, 2016.

ADDRESSES: Submit your comments, referencing Docket ID Number EPA-HQ-OPA-2007-0042, to (1) EPA online using www.regulations.gov (our preferred method), by email to Docket.rcra@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Leigh DeHaven, Office of Emergency Management, Regulations Implementation Division (5104A), Environmental Protection Agency, 1200 Pennsylvania Ave. NW., Washington, DC 20460; telephone number: (202) 564-1974; email address: DeHaven.Leigh@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: This renewal supports activities to implement the National Oil and Hazardous Substances Pollution Contingency Plan (NCP), subpart J (40 CFR 300.900, “Use of Dispersants and Other Chemicals”). The use of bioremediation agents, dispersants, surface washing agents, surface collecting agents and miscellaneous oil spill control agents in response to oil spills in U.S. waters or adjoining shorelines is governed by subpart J of the NCP regulation (40 CFR 300.900). Subpart J requirements include criteria for listing oil spill mitigating agents on the NCP Product Schedule. EPA's regulation, which is codified at 40 CFR 300.00, requires that EPA prepare a schedule of “dispersants, other chemicals, and other spill mitigating devices and substances, if any, that may be used in carrying out the NCP.” The Schedule is required by section 311(d)(2)(G) of the Clean Water Act (CWA), as amended by the Oil Pollution Act of 1990. The Schedule is used by Federal On-Scene Coordinators (FOSCs), Regional Response Teams (RRTs), and Area Planners to identify spill mitigating agents in preparation for and response to oil spills. Under subpart J, respondents who want to add a product to the Schedule must submit technical product data to EPA as stipulated in 40 CFR 300.915. Specifically, Subpart J requires the manufacturer to conduct specific toxicity and effectiveness tests and submit the corresponding technical product data along with other detailed information to EPA's Office of Emergency Management, Office of Land and Emergency Management.

Form Numbers: None.

Respondents/affected entities: Manufacturers of bioremediation agents, dispersants, surface collecting agents, surface washing agents, and other chemical agents.

Respondent's obligation to respond: Required to obtain or retain benefits (40 CFR 300.900).

Estimated number of respondents: 21.

Frequency of response: Once.

Total estimated burden: 315 hours (per year). Burden is defined at 5 CFR 1320.03(b).

Total estimated cost: $89,590 (per year), which includes $72,450 annualized capital or operation & maintenance costs.

Changes in the Estimates: There is no change of hours in the total estimated respondent burden compared with the ICR currently approved by OMB. All regulatory requirements remain the same as in the previous ICRs for the 1994 subpart J Rule.

Courtney Kerwin,
Director, Regulatory Support Division.

[FR Doc. 2016-22661 Filed 9-20-16; 8:45 am]

BILLING CODE 6560-50-P